DEPARTMENT OF DEFENSE

Department of the Air Force

[Docket ID USAF-2012-0001]

Privacy Act of 1974; System of Records

AGENCY: Department of the Air Force, DoD.

ACTION: Notice to Alter a System of Records.

SUMMARY: The Department of the Air Force proposes to alter a system of records in its inventory of record systems subject to the Privacy Act of 1974 (5 U.S.C. 552a), as amended.

DATES: This proposed action will be effective on February 17, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, U.S. Air Force Privacy Officer, Department of the Air Force Privacy Office, Air Force Privacy Act Office, Office of Warfighting Integration and Chief Information officer, Attn: SAF/CIO A6, 1800 Air Force Pentagon, Washington DC 20330-1800, or by phone at (703) 696-6488, DSN 426-6488.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on January 12, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 12, 2012.
Aaron Siegel,
Alternate OSD Federal Register Liaison Officer, Department of Defense.

F033 AFCA A

System Name:

Military Affiliate Radio System (MARS) Member Records (April 12, 1999, 64 FR 17636).

* * * * *

Changes:

Delete entry and replace with “F033 AFSPC A.”

* * * * *

Safeguards:

Delete entry and replace with “Records are maintained in a controlled facility. Physical entry is restricted by the use of locks, guards, and is accessible by authorized personnel. Access to records is limited to person(s) responsible for servicing the record in the performance of their official duties and who are properly screened and cleared for need-to-know. System software uses Primary Key Infrastructure (PKI)/Common Access Card (CAC) authentication to lock out unauthorized access. System software contains authorization/permission partitioning to limit access to appropriate organization level.”

* * * * *

System manager(s) and address:

Delete entry and replace with “Director of Enterprise Services, HQ AFNIC/ESMT, 203 W. Losey Street, Room 3100, Scott Air Force Base, IL 62225-5222.”

Notification procedure:

Delete entry and replace with, “Individuals seeking to determine whether this system of record contains information on themselves should address written inquires to the Director of Enterprise Services, HQ AFNIC/ESMT, 203 W. Losey Street, Room 3100, Scott Air Force Base, IL 62225-5222.

Individuals seeking information on this system should provide individual name, MARS call sign, amateur call sign, mailing address, Federal Communications license class, military status, telephone number, and date of birth.

For verification purposes, individual should provide their full name, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)' ”

Record access procedures:

Delete entry and replace with, “Individuals seeking to access records about themselves contained in this system should address written requests to the Director of Enterprise Services, HQ AFNIC/ESMT, 203 W. Losey Street, Room 3100, Scott Air Force Base, IL 62225-5222.

Include in the request the individual name, MARS call sign, amateur call sign, mailing address, Federal Communications license class, military status, telephone number, and date of birth.

For verification purposes, individual should provide their full name, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

F033 AFSPC A

System name:

Military Affiliate Radio System (MARS) Member Records.

System location:

Air Force Network Integration Center (AFNIC), Air Force installations and Military Affiliate Radio System (MARS) member stations. Official mailing addresses are published as an appendix to the Air Force compilation of systems of records notices.

Categories of individuals covered by the system:

Amateur Radio Operators licensed by United States Air Force (USAF) Military Affiliate Radio System.

Categories of records in the system:

MARS Personnel Action Notification and Applications of Membership in Military Affiliate Radio System. Information includes individual name, Military Affiliate Radio System call sign, amateur call sign, mailing address, Federal Communications license class, military status, telephone number, and date of birth.

Authority for maintenance of the system:

10 U.S.C. 8013, Secretary of Air Force, delegation by; as implemented by Air Force Instruction 33-106, Managing High Frequency Radios, Personal Wireless Communication Systems, and the Military Affiliate Radio System.

Purpose(s):

To identify Military Affiliate Radio System members, to describe and update information concerning members, to assign call signs and designator, mailing address, amateur license, telephone number, and responsibilities.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The DoD “Blanket Uses” published at the beginning of the Air Force's compilation of systems of record notices apply to this system.

Policies and practices for storing, retrieving, accessing, retaining and disposing of records in the system:

Storage:

Paper records and electronic storage media.

Retrievability:

Retrieved by name, call sign or designator and geographic location.

Safeguards:

Records are maintained in a controlled facility. Physical entry is restricted by the use of locks, guards, and is accessible by authorized personnel. Access to records is limited to person(s) responsible for servicing the record in the performance of their official duties and who are properly screened and cleared for need-to-know. System software uses Primary Key Infrastructure (PKI)/Common Access Card (CAC) authentication to lock out unauthorized access. System software contains authorization/permission partitioning to limit access to appropriate organization level.

Retention and disposal:

Retained until reassignment or termination of membership, and then destroyed by tearing to pieces, shredding, pulping, macerating or burning.

System manager(s) and address:

Director of Enterprise Services, HQ AFNIC/ESMT, 203 W. Losey Street, Room 3100, Scott Air Force Base, IL 62225-5222.

Notification procedure:

Individuals seeking to determine whether this system of record contains information on themselves should address written inquires to the Director of Enterprise Services, HQ AFNIC/ESMT, 203 W. Losey Street, Room 3100, Scott Air Force Base, IL 62225-5222.

Individuals seeking information on this system should provide individual name, MARS call sign, amateur call sign, mailing address, Federal Communications license class, military status, telephone number, and date of birth.

For verification purposes, individual should provide their full name, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'

Record access procedures:

Individuals seeking to access records about themselves contained in this system should address written requests to the Director of Enterprise Services, HQ AFNIC/ESMT, 203 W. Losey Street, Room 3100, Scott Air Force Base, IL 62225-5222.

Include in the request the individual name, MARS call sign, amateur call sign, mailing address, Federal Communications license class, military status, telephone number, and date of birth.

For verification purposes, individual should provide their full name, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting record procedures:

The Air Force rules for accessing records, and for contesting contents and appealing initial agency determinations are published in Air Force Instruction 33-332; 32 CFR part 806b; or may be obtained from the system manager.

Record source categories:

Individual members and Military Affiliate Radio System officials.

Exemptions claimed for the system:

None.

[FR Doc. 2012-824 Filed 1-17-12; 8:45 am]

BILLING CODE 5001-06-P